DEPARTMENT OF TRANSPORTATION

Federal Aviation Administration

[Policy Statement No. ANM-02-115-20]

Corded Electrical Devices Used in the Passenger Cabin

AGENCY: Federal Aviation Administration (FAA), DOT.

ACTION: Notice of final policy.

SUMMARY: The Federal Aviation Administration (FAA) announces the availability of final policy that addresses potential hazards associated with the installation of corded electrical devices used in the passenger cabin.

DATES: This final policy was issued in the Transport Airplane Directorate on November 21, 2002.

FOR FURTHER INFORMATION CONTACT: Alan Sinclair, Federal Aviation Administration, Transport Airplane Directorate, Transport Standards Staff, Airframe and Cabin Safety Branch, ANM-115, 1601 Lind Avenue SW., Renton, WA 98055-4056; telephone (425) 227-2195; fax (415) 227-1149 e-mail: alan.sinclair@faa.gov.

SUPPLEMENTARY INFORMATION:

Discussion of Comments: A notice of proposed policy was published in the Federal Register on August 30, 2002 (67 FR 55912). Four commenters responded to the request for comments.

Background

The policy provides an applicant with various certifications options, which will require little or no on-aircraft evaluation of corded devices, provided that these devices meet certain basic criteria. Examples of corded electrical deices are telephone handsets and video system controllers. This guidance supersedes the previously issued guidance in this area.

The final policy as well as the disposition of public comments received is available on the Internet at the following address; http://www.faa.gov/certification/aircraft/anminfo/finalpaper.cfm. If you do not have access to the Internet, you can obtain a copy of the policy by contacting the person listed under FOR FURTHER INFORMATION CONTACT.

Dated: Issued in Renton, Washington, on November 21, 2002.
Ali Bahrami,
Acting Manager, Transport Airplane Directorate, Aircraft Certification Service.

[FR Doc. 02-30614 Filed 12-2-02; 8:45 am]

BILLING CODE 4910-13-M